ENVIRONMENTAL PROTECTION AGENCY

[FRL-10026-01-R5]

Proposed CERCLA Section 122 Administrative Settlement Agreement and Order on Consent; Joan D. Pecina/Trust 2000, Bautsch Gray Mine Superfund Site, Jo Daviess County, Illinois

AGENCY: Environmental Protection Agency (EPA).

ACTION: Notice of proposed Ability to Pay settlement agreement and request for public comments.

SUMMARY: The Environmental Protection Agency (EPA) hereby gives notice of a proposed Ability to Pay Administrative Settlement Agreement and Order on Consent (Settlement) pertaining to an approximately 28-acre portion of the Bautsch Gray Mine Superfund Site (Site), on Blackjack Road, in Jo Daviess County, Illinois. EPA invites public comment on the Settlement for thirty (30) days following publication of this notice. The Settlement reflects Potentially Responsible Party (PRP) Joan D. Pecina/Trust 2000's inability to pay a cash dollar amount and requires that the PRP comply with specified property requirements in the Settlement and through an associated Environmental Covenant. The PRP has evidenced proof of an (In)Ability to Pay (ATP) any portion of CERCLA response costs related to the Site. Satisfying the property requirements safeguards for human health and the environment by reducing the risk of exposure to certain hazardous wastes and substances.

DATES: Comments must be post marked or received on or before September 15, 2022.

ADDRESSES: The proposed settlement agreement and related site documents can be viewed at the Superfund Records Center, (SRC-7J), United States Environmental Protection Agency, Region 5, 77 West Jackson Boulevard, Chicago, Illinois 60604, (312) 886-4465 and on-line at www.epa.gov/superfund/bautsch-gray-mine.

FOR FURTHER INFORMATION CONTACT: Further information or a copy of the Settlement may be obtained from either Tom Turner, Office of Regional Counsel (C-14J),

U.S. Environmental Protection Agency, Region 5, 77 West Jackson Boulevard, Chicago, Illinois 60604, (312) 886-6613 or turner.thomas@epa.gov or Public Affairs Specialist Janet Pope, Office of Public Affairs (R-19J), U.S. Environmental Protection Agency, Region 5, 77 West Jackson Boulevard, Chicago, Illinois 60604, (312) 353-0648 or pope.janet@epa.gov:

SUPPLEMENTARY INFORMATION:

I. Background Information

In accordance with Section 122 (i) of the Comprehensive Environmental Response, Compensation, and Liability Act, as amended (“CERCLA”), 42 U.S.C. 9622 (i), notice is hereby given of a proposed CERCLA ATP Settlement with PRP Joan D. Pecina/Trust 2000 pertaining to the Bautsch Gray Mine Superfund Site, Blackjack Road, Jo Daviess County, Illinois. PRP Pecina/Trust 2000 will not pay a cash amount due to a proven inability to pay, but has agreed to comply with specified property requirements. PRP Pecina/Trust 2000 will fill out and submit for approval an Illinois Environmental Covenant form and attachments, give Notice to any Successors to ownership of the property and secure the remediated portion of the property against disturbance. These actions will reduce the threat of direct contact with lead and hazardous metals contaminated soil. These actions will also reduce the threat of exposure to hazardous wastes and substances at the property.

The Settlement includes an EPA covenant not to sue the settling party pursuant to sections 106 and 107 of CERCLA, 42 U.S.C. 9606 and 9607.

II. Opportunity To Comment

A. General Information

For thirty (30) days following the date of publication of this notice, the Agency will receive written comments relating to the Settlement. The Agency will consider all comments received, and may modify or withdraw its consent to the Settlement if comments received disclose facts or considerations which indicate that the Settlement is inappropriate, improper, or inadequate.

B. Where do I send my comments or view responses?

Your comments should be mailed to Janet Pope, Public Affairs Specialist (mail code: R-19J), U. S. Environmental Protection Agency, Region 5, 77 West Jackson Boulevard, Chicago, Illinois 60604, or pope.janet@epa.gov. The Agency's response to any comments received will be available for public inspection at the Superfund Records Center.

C. What should I consider as I prepare my comments for EPA?

1. Submitting Confidential Business Information (CBI). Do not submit such information to EPA through an agency website or via email. Clearly mark the part or all the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (site name, Federal Register date and page number).

• Follow directions—the agency may ask you to respond to specific questions or organize comments by referencing a Code of Federal Regulations (CFR) part or section number.

• Explain why you agree or disagree with the terms of the Settlement; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the identified comment period deadline.

Douglas Ballotti,
Director, Superfund & Emergency Management Division.

[FR Doc. 2022-17516 Filed 8-15-22; 8:45 am]

BILLING CODE 6560-50-P